DEPARTMENT OF COMMERCE

International Trade Administration

[A-570-822]

Certain Helical Spring Lock Washers From the People's Republic of China; Final Results of Antidumping Duty Review

AGENCY: Import Administration, International Trade Administration, Department of Commerce.

ACTION: Notice of final results of antidumping duty review.

SUMMARY: On September 8, 2000, the Department of Commerce published the preliminary results of the administrative review of the antidumping duty order on certain helical spring lock washers from the People's Republic of China. This review covers one manufacturer/exporter, Zhejiang Wanxin Group Co. Ltd., the predecessor firm to Hang Zhou Spring Washer Co. (collectively Hangzhou), and the period is October 1, 1998, through September 30, 1999. We gave interested parties an opportunity to comment on the preliminary results of review but received no comments. As in the preliminary results, we have found that the sales of certain helical spring lock washers were made below normal value.

EFFECTIVE DATE: January 5, 2001.

FOR FURTHER INFORMATION CONTACT: Sally Hastings or Craig Matney, Import Administration, International Trade Administration, U.S. Department of Commerce, 14th and Constitution Avenue, NW., Washington, DC 20230; telephone (202) 482-3464 or (202) 482-1778, respectively.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR part 351 (1999).

Background

On September 8, 2000, the Department published in the Federal Register the preliminary results of its administrative review of helical spring lock washers (“HSLWs”) from the PRC (Certain Helical Spring Lock Washers from the People's Republic of China; Preliminary Results of Antidumping Duty Administrative Review), 65 FR 54493 (September 8, 2000) (“Preliminary Results”). We issued a second supplemental questionnaire to Hangzhou on September 7, 2000, requesting plater-specific information and a revised factors of production database. Hangzhou submitted its response on September 21, 2000. We invited parties to comment on our preliminary results of review, but we received no comments. The Department has now completed the antidumping duty administrative review in accordance with section 751 of the Act.

Scope of Review

The products covered by this review are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and, (3) provide a hardened bearing surface. The scope does not include internal or external tooth washers, nor does it include spring lock washers made of other metals, such as copper.

HSLWs subject to this review are currently classifiable under subheading 7318.21.0030 of the Harmonized Tariff Schedule of the United States (“HTSUS”). Although the HTSUS subheading is provided for convenience and customs purposes, the written description of the scope of this proceeding is dispositive.

Verification

Pursuant to section 782(i) of the Act, we verified sales and factors of production information provided by Hangzhou in Xiaoshan, PRC, using standard verification procedures, including the examination of relevant sales, accounting and production records, as well as original source documents provided by the respondents. Our verification results are outlined in the public version of the verification report, dated August 14, 2000, and located in the public file in the Central Records Unit, room B-099 of the Department's main building.

Comparisons

We calculated export price and normal value based on the same methodology used in the Preliminary Results and analyzed the additional plating information submitted by respondent.

Final Results of the Review

Respondent Hangzhou submitted the requested additional plater-specific information and revised factors of production database on September 21, 2000. We have incorporated this new information in our analysis for purposes of these final results (See Calculation Memorandum from Craig Matney to file dated December 27, 2000). The weighted-average dumping margin for the period October 1, 1998 through September 30, 1999, is as follows:

Manufacturer/exporter | Time period | Margin (percent)
Hang Zhou Spring Washer Co. Ltd/Zhejiang Wanxin Group Co., Ltd. (ZWG) | 10/01/98-09/30/99 | 2.76

The Department shall determine, and the Customs Service shall assess, antidumping duties on all appropriate entries. The Department will issue appraisement instructions directly to the Customs Service.

Furthermore, the following deposit rates will be effective upon publication of these final results for all shipments of HSLWs from the PRC entered, or withdrawn from warehouse, for consumption on or after the publication date, as provided for by section 751(a)(1) of the Act: (1) For Hangzhou, which has a separate rate, the cash deposit rate will be the company-specific rate established in these final results of review; (2) for all other PRC exporters, the cash deposit rate will be the PRC rate, 128.63 percent, which is the All Other PRC Manufacturers, Producers and Exporters rate from the Final Determination of Sales at Less Than Fair Value: Certain Helical Spring Lock Washers from the PRC, 58 FR 48833 (September 20, 1993); and, (3) for non-PRC exporters of subject merchandise from the PRC, the cash deposit rate will be the rate applicable to the PRC supplier of that exporter. These deposit rates shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This administrative review and notice are in accordance with sections 751(a)(1) and 777(i)(1) of the Act.

Dated: December 27, 2000.
Richard W. Moreland,
Acting Assistant Secretary for Import Administration.

[FR Doc. 01-276 Filed 1-4-01; 8:45 am]

BILLING CODE 3510-25-P